DEPARTMENT OF HEALTH AND HUMAN SERVICES

Centers for Disease Control and Prevention

Notice of Award of a Single-Source Unsolicited Grant To Fund the Community Education Group

AGENCY: Centers for Disease Control and Prevention (CDC), Department of Health and Human Services (HHS).

ACTION: Notice.

SUMMARY: The Centers for Disease Control and Prevention (CDC), located within the Department of Health and Human Services (HHS) announces the award of approximately $5,000,000 annually in COVID-19 funding for a three-year period in response to an unsolicited application that has been submitted by the Community Education Group to support vaccine coverage, in particular for COVID-19.

DATES: The period for this award will be July 31, 2021 through July 30, 2024.

FOR FURTHER INFORMATION CONTACT: Stephanie Griswold, MPH, National Center for Immunization and Respiratory Diseases, Centers for Disease Control and Prevention, 1600 Clifton Road NE, MS-H24-8, Atlanta, GA 30329, Telephone: 800-232-6348, E-Mail: eocevent515@cdc.gov.

SUPPLEMENTARY INFORMATION: The proposed work being funded aims to build the evidence base of effective interventions to improve vaccination coverage and to identify and implement strategies to reduce disparities in vaccination coverage in rural populations, specifically in West Virginia. Community Education Group (CEG) works to eliminate disparities in health outcomes and improve public health in disadvantaged populations and under-served communities by conducting research, training community health workers, educating and testing people who are hard to reach or at risk, sharing its expertise through national networks and local capacity building efforts, and advocating for practical and effective health policies that lead to social change.

This award is being made non-competitively because there is no current, pending, or planned funding opportunity announcement under which this proposal could compete.

The National Center for Immunization and Respiratory Diseases performed an objective review of the unsolicited proposal and determined that the proposal has merit and CEG is in a unique position to perform the activities contained within their proposal. CEG works to eliminate disparities in health outcomes and improve public health in disadvantaged populations and under-served communities by conducting research, training community health workers, educating and testing people who are hard to reach or at risk.

Summary of the Award

Recipient: Community Education Group (CEG).

Purpose of the Award: The purpose of the award is to build the evidence base of effective interventions to improve vaccination coverage and to identify and implement strategies to reduce disparities in vaccination coverage in rural populations. The proposal submitted was not solicited either formally or informally by any federal government official.

Amount of Award: $5,000,000 in Federal Fiscal Year (FYY) 2021 funds, and an estimated $5,000,000 for each subsequent year budget period, subject to availability of funds.

Period of Performance: July 31, 2021 through July 30, 2024.

Dated: July 20, 2021.
Joseph I. Hungate, III,
Deputy Director, Office of Financial Resources, Office of the Chief Operating Officer, Centers for Disease Control and Prevention.

[FR Doc. 2021-15738 Filed 7-22-21; 8:45 am]

BILLING CODE 4163-18-P